DEPARTMENT OF DEFENSE

Department of the Army, Corps of Engineers

Intent To Prepare an Environmental Impact Statement for the Jasper Ocean Terminal in Jasper County, South Carolina

AGENCY: Department of the Army, U.S. Army Corps of Engineers, DOD.

ACTION: Notice of intent.

SUMMARY: The U.S. Army Corps of Engineers (Corps), Charleston District intends to prepare an Environmental Impact Statement (EIS) to assess the potential social, economic, and environmental effects of the proposed construction and operation of a marine container terminal by the Jasper Ocean Terminal (JOT) Joint Venture, a partnership between the Georgia Ports Authority (GPA) and the South Carolina Ports Authority (SCPA). In accordance with the National Environmental Policy Act (NEPA), the Corps is the lead Federal agency responsible for the preparation of the EIS. Information included in the EIS will serve as the basis for the Corps' evaluation of the proposed marine container terminal pursuant to Section 10 of the Rivers and Harbors Act (RHA) and Section 404 of the Clean Water Act (CWA). The EIS will assess the potential effects of the proposed project and a range of reasonable project alternatives on impacts to navigable waters and other waters of the United States. The EIS will also provide information for Federal, State, and local agencies having other jurisdictional responsibility.

DATES: Public Scoping Meeting: A public scoping meeting has not been scheduled; however, a local public notice will be issued by the Charleston District, and a meeting announcement will be published in local newspapers once the date and location for the scoping meeting has been determined. Individuals and organizations that are interested in the proposed JOT or whose interests may be affected by the proposed work are encouraged to attend the scoping meeting to submit oral and/or written comments to the Charleston District.

FOR FURTHER INFORMATION CONTACT: For further information and/or questions about the proposed project or the NEPA process, please contact Mr. Nat Ball, the Corps Project Manager, by telephone: 843-329-8044 or toll-free 1-866-329-8187, or by mail: Mr. Nat Ball, U.S. Army Corps of Engineers, 69-A Hagood Avenue, Charleston, South Carolina 29403.

SUPPLEMENTARY INFORMATION: The Corps is evaluating a proposal from the JOT Joint Venture in accordance with Section 404 of the CWA, Section 10 of the RHA, and NEPA. Based on the available information, the Corps has determined that the proposed JOT has the potential to significantly affect the quality of the human and natural environment, and therefore warrants the preparation of an EIS. Additional information about the proposed project and the NEPA process is available on the project Web site at: www.JasperOceanTerminalEIS.com.

1. Description of the Proposed Project. According to the JOT Joint Venture, the Ports of Charleston and Savannah are expected to experience limitations and inefficiencies as a result of the forecasted growth in demand for containerized cargo within the region served by the two existing ports over the next 35 years. As a result, the JOT Joint Venture has proposed to construct and operate a state of the art marine container terminal on an approximately 1,500-acre site in Jasper County, South Carolina. The proposed JOT would be located across the Savannah River from Elba Island, Georgia, and would increase the region's capacity to efficiently handle the forecasted cargo.

The proposed JOT would include a pile supported wharf designed to accommodate Neo-Panamax containerships, a container storage yard, an intermodal rail yard, gate facilities to process entering and existing over the road truck traffic, administrative buildings, and equipment service facilities. The proposed JOT would also include elements common to other types of industrial sites, such as a water tower, underground utilities, electrical substations, backup generators, high-mast lighting, stormwater management facilities, perimeter fencing, and parking areas for employees and other personal vehicles.

Proposed transportation and utility improvements that would serve the proposed JOT include a 4-lane divided highway to connect the JOT to U.S. Highway 17, a double track rail corridor to connect the JOT's intermodal rail yard to existing CSX Transportation and Norfolk Southern rail lines, a new rail bridge across the Savannah River, and utility lines and intermediary facilities to connect to existing services (water, sewer, electricity, etc). Likewise, navigation improvements associated with the proposed JOT include new work and maintenance dredging of berths, an access channel, and a turning basin to provide vessel access to the terminal, and shoreline stabilization, bulkhead, and wharf construction adjacent to the existing Savannah Harbor federal navigation channel.

According to the JOT Joint Venture, a separate feasibility study will evaluate the costs and benefits of modifications to the existing Savannah Harbor Federal navigation channel. Should this feasibility study or the Corps' analysis of the proposed JOT determine that modifications to the federal navigation channel are required to operate the proposed marine container terminal, potential impacts to the human and natural environment (e.g., aquatic resources) associated with any navigational improvements will be evaluated and included in the EIS for the proposed JOT.

2. Alternatives. A range of reasonable alternatives to the proposed action will be identified, and fully evaluated in the EIS, including: The No-Action Alternative, the applicant's proposed alternative, and alternatives that may result in avoidance and minimization of impacts; however, this list in not exclusive and additional alternatives may be considered for inclusion.

3. Scoping and Public Involvement Process. A scoping meeting will be conducted to gather information on the scope of the project and the alternatives to be addressed in the EIS. Additional public and agency involvement will be sought through the implementation of a public involvement plan and agency coordination.

4. Significant issues. Issues and potential impacts associated with the proposed JOT that are likely to be given detailed analysis in the EIS include, but are not necessarily limited to: Existing and proposed transportation infrastructure (roadways and railways), waters of the United States, air quality, noise, light, Environmental Justice, visual resources/aesthetics, general environmental concerns, cultural resources, fish and wildlife values, protected species, flood hazards, floodplain values, land use, recreation, water quality, hazardous materials and solid waste, socioeconomics, safety, and in general, the needs and welfare of the people.

5. Additional Review and Consultation. Additional review and consultation, which will be incorporated into the preparation of the EIS, will include, but will not necessarily be limited to, Section 14 of the RHA; Section 401 of the CWA; Essential Fish Habitat (EFH) consultation requirements of the Magnuson-Stevens Fishery Conservation and Management Act; the Endangered Species Act; Fish and Wildlife Coordination Act; National Historic Preservation Act; and the South Carolina Coastal Zone Management Act.

6. Availability of the Draft EIS. At this time, the Corps expects the Draft EIS to be made available to the public in late fall/winter 2020. A Public Hearing will be held during the public comment period for the Draft EIS.

Matthew W. Luzzatto,
Lieutenant Colonel, U.S. Army Corps of Engineers, Charleston District.

[FR Doc. 2016-25519 Filed 10-20-16; 8:45 am]

BILLING CODE 3720-58-P